DEPARTMENT OF HEALTH AND HUMAN SERVICES

Centers for Disease Control and Prevention

Advisory Committee to the Director (ACD), Centers for Disease Control and Prevention (CDC)—Ethics Subcommittee (ES)

In accordance with section 10(a)(2) of the Federal Advisory Committee Act (Pub. L. 92-463), the CDC announces the following meeting of the aforementioned subcommittee:

Dates and Times:

February 9, 2012, 1 p.m.-5 p.m.

February 10, 2012, 8:30 a.m.-12:30 p.m.

Place: CDC, Thomas R. Harkin Global Communications Center, Auditorium B-3, 1600 Clifton Road, NE., Atlanta, Georgia 30333. This meeting is also available by teleconference. Please dial (877) 928-1204 and enter code 4305992.

Status: Open to the public, limited only by the space available. The meeting room accommodates approximately 200 people. To accommodate public participation in the meeting, a conference telephone line will be available. The public is welcome to participate during the public comment period. The public comment periods are tentatively scheduled for 4:30 p.m.-4:45 p.m. on February 9, 2012 and from 12 p.m.-12:15 p.m. on February 10, 2012.

Purpose: The ES will provide counsel to the ACD, CDC, regarding a broad range of public health ethics questions and issues arising from programs, scientists and practitioners.

Matters To Be Discussed: Agenda items will include the following: Progress on developing practical tools to assist state, tribal, local, and territorial health departments in their efforts to address public health ethics challenges, approaches for evaluating the impact of public health ethics, strategies for increasing collaboration between public health ethics and public health law, and updates on CDC efforts to build national and international collaboration on public health ethics.

The agenda is subject to change as priorities dictate.

Contact Person for More Information: For security reasons, members of the public interested in attending the meeting should contact Drue Barrett, Ph.D., Designated Federal Officer, ACD, CDC-ES, 1600 Clifton Road NE., M/S D-50, Atlanta, Georgia 30333. Telephone: (404) 639-4690. Email: dbarrett@cdc.gov. The deadline for notification of attendance is February 3, 2012.

The Director, Management Analysis and Services Office, has been delegated the authority to sign Federal Register notices pertaining to announcements of meetings and other committee management activities, for both the Centers for Disease Control and Prevention and the Agency for Toxic Substances and Disease Registry.

Dated: January 11, 2012.
Elaine L. Baker,
Director, Management Analysis and Services Office, Centers for Disease Control and Prevention.

[FR Doc. 2012-835 Filed 1-17-12; 8:45 am]

BILLING CODE 4163-18-P